DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently at 64 FR 66925, November 30, 1999, and redesignated from Part HN as Part N at 60 FR 56605, November 9, 1995), is amended as set forth below: Within the Office of Program Coordination (1) Revise the functional statement and (2) Assign standard administrative codes to its two subcomponents, the Executive Secretariat and the Office of Federal Advisory Committee Policy.

Section N-B, Organization and Functions, is amended by replacing the current section NAN (formerly HNAN) with the following:

Office of Program Coordination (NAN, formerly HNAN). In support of the Director, NIH, (1) Coordinates the Director's program and administrative decision-making process; (2) Facilitates communication among the Director, the NIH Deputy and Associate Directors, other senior Office of the Director (OD) staff, and Institute and Center (IC) Directors to bring their expertise to bear on substantive issues; (3) Advises the Director, NIH, on the status and implications of activities NIH-wide; (4) Brings to the attention of the Director and recommends actions to resolve trans-NIH issues, consulting with the NIH Deputy Directors as appropriate; follows up and ensures implementation of decisions by the Director, NIH; (5) Directs the Executive Secretariat and the Office of Federal Advisory Committee Policy; and (6) Directs the operations of the immediate staff of the Director.

Executive Secretariat (NAN2). In support of the Director's decision-making process, the Executive Secretariat (1) Controls the communications flow by communicating the actions taken and policies set by the Director on documents and at meetings, including revisions needed and follow-up actions; (2) Manages the flow of decision documents and correspondence for action by the Director of NIH; (3) Tracks incoming documents and makes action and review assignments to appropriate staff in the ICs and the Office of the Director; (4) Edits, reviews, clears, and submits to the Office of the Secretary all congressional reports except those required by Appropriations Committees; (5) Sets editorial standards and processing policies for documents acted on by the Director; (6) Maintains all official records relating to the decisions and official actions of the Director, NIH, and his or her immediate staff; (7) Ensures that the Director has the views of ICs and OD staff offices before making program or management decisions; (8) Anticipates potential problems and plans for processing future decisions and issue analyses; (9) Facilitates the resolution of conflicts among recommendations to the Director and makes an independent recommendation when resolution cannot be achieved; (10) Applies sophisticated information technology to the management of the workflow NIH-wide and supports HHS-wide efforts to improve the processing of decision documents; (11) Represents NIH in relations with the Executive Secretary of the Department, other HHS executive secretariats, and with outside document management organizations; and (12) Carries out special projects assigned by the Director or Assistant Director for Program Coordination.

Office of Federal Advisory Committee Policy (NAN3). To assist the Director in carrying out NIH's responsibilities under the Federal Advisory Committee Act, the Office of Federal Advisory Committee Policy (1) Plans and directs Federal advisory committee activities at NIH; (2) Ensures that laws, regulations and policies affecting advisory committees are understood and adhered to in the establishment and renewal of committees, the nomination and appointment of committee members, and the preparation of reports for the Office of Management and Budget, the General Services Administration, Congress, and the President; (3) Sets policy for all NIH Advisory Committees, Councils, and Boards; (4) Ensures appropriate management and internal controls are in place; (5) Formulates documentation on Federal advisory committee activities; (6) Serves as the liaison with the committee management and other key staff in the Office of the Secretary and other Federal agencies; (7) Provides technical guidance and information to assist managers of advisory bodies and the public; and (8) Provides or facilitates advisory committee training for all NIH staff involved in the management of Federal advisory committees.

Dated: February 15, 2000.
Ruth L. Kirschstein,
Acting Director, NIH.

[FR Doc. 00-5280 Filed 3-3-00; 8:45 am]

BILLING CODE 4140-01-M